DEPARTMENT OF AGRICULTURE

Forest Service

Payette National Forest, Idaho, Middle Little Salmon Vegetation Management Project

AGENCY: Forest Service, USDA.

ACTION: Revised notice of intent to prepare an environmental impact statement.

SUMMARY: The USDA Forest Service published a Notice of Intent to prepare an environmental impact statement (EIS) for the Middle Little Salmon Vegetation Management Project in the Federal Register on February 12, 1999 (Vol. 64, No. 29, pages 7164-7165). A revised Notice of Intent is being issued due to two major changes (Forest Service Handbook 1909.15 part 21.2):

1. It has been more than six months since filing the original Notice of Intent; and

2. There has been a change in the proposed action.

The USDA Forest Service will prepare the Middle Little Salmon Vegetation Management Project EIS. The proposed action in the EIS is to manage timber stands to improve their productivity and provide defensible space from wildfires on National Forest System Lands adjacent to a private land subdivision. Additionally, the proposed action is to obliterate roads to reduce sediment, and close other roads to reduce wildlife vulnerability. The Payette National Forest invites written comments and suggestions on the scope of the analysis and the issues to address. The agency gives notice of the full National Environmental Policy Act (NEPA) analysis and decision-making process so that interested and affected people know how they may participate and contribute to the final decision.

DATES: Comments need to be received by May 28, 2002.

ADDRESSES: Send written comments to Kimberly A. Brandel, District Ranger, New Meadows Ranger District, Payette National Forest, P.O. Box J, New Meadows, Idaho 83654.

FOR FURTHER INFORMATION CONTACT: Questions about the proposed action should be directed to Sue Dixon, Project Team Leader, at the above address, phone (208) 347-0300.

SUPPLEMENTARY INFORMATION: The Middle Little Salmon planning area is located in the Round Valley Creek and Upper Mud Creek subwatersheds on the New Meadows Ranger District. It is four miles north and west of New Meadows and is approximately 11,823 acres in size. The purpose and need for this activity is to (1) improve the existing condition of forest vegetation within the planning area to move toward the goals, objectives, and desired future condition for forest vegetation stated in the Payette National Forest Land and Resource Plan; and (2) lower the risk of crown fires and reduce fire severity on National Forest lands surrounding the Circle C subdivision.

The proposed action includes a variety of activities to meet the purpose and need. (1) Harvest approximately 6.4 million board feet on 686 acres, of which 361 acres are to reduce the fuels around the Circle C Subdivision. Harvest prescriptions would consist of shelterwood, commercial thinning, and patch clearcuts. Yarding systems would be primarily tractor, and 79 acres of skyline. (2) Reduce crown fire hazard and lower fire severity on 605 acres by commercial harvest (361 acres stated previously), hand pile and burn 211 acres in riparian conservation areas, and prescribe burn an additional 33 acres. (3) Provide for conifer seedling planting and natural regeneration on 427 acres. (4) Road management would consist of reconstructing seven miles of road, and decommissioning or closing 73 miles of road. There would be no new road construction. Seven miles of road would be reconstructed for hauling logs, and stream crossings would include graveling to reduce sediment. (5) Treat harvest generated fuels on approximately 685 acres. A total of 929 acres would be treated with this proposed action. This proposed action would require four one-time, site-specific, non-significant amendments to the Payette National Forest Plan.

Preliminary issues for this project include effects on fisheries, wildlife, water quality, and effects of hazardous fuels reduction.

A range of reasonable alternatives will be considered. The no-action alternative will serve as a baseline for comparison of alternatives. The proposed action will be considered along with additional alternatives developed that meet the purpose and need and address significant issues identified during scoping. Alternatives may have different amounts, locations, and types of project activities.

Comments received in response to this notice, including names and addresses of those who comment, will be part of the project record and available for public review.

The Forest Service is seeking information and comments from other Federal, State, and local agencies; Tribal governments, organizations; and individuals who may be interested in or affected by the proposed action. This input will be used in preparation of the EIS.

Comments will be appreciated throughout the analysis process. The draft EIS will be filed with the Environmental Protection Agency (EPA) and is anticipated to be available for public review by summer 2002. The comment period on the draft EIS will be 45 days. It is important that those interested in the management of the Payette National Forest participate at that time.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon V. Hodel, 803 F. 2d 016, 1002 (9th Cir. 1986) and Wisconsin Heritages, Inc. v. Harris, 490 F. Supp. 1334, 1338 (E. D. Wis. 1980). Because of these court rulings, it is important that those interested in this proposed action participate by the close of the 45 day comment period so that substantive comments and objections are made available to the Forest Service at a time when it can meaningfully consider them and respond to them in the final environmental impact statement.

To assist the Forest Service in identifying and considering issues raised by the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

After the 45-day comment period ends on the draft EIS, the Forest Service will analyze comments received and address them in the final EIS. The final EIS is scheduled to be completed in 2002. The Responsible Official is the Payette National Forest Supervisor. The decision will be documented, including the rationale for the decision, in a Record of Decision (ROD). The decision will be subject to review under the Forest Service Appeal Regulations at 36 CFR 215.

Dated: April 11, 2002.
Robert S. Giles,
Acting Forest Supervisor.

[FR Doc. 02-9609 Filed 4-18-02; 8:45 am]

BILLING CODE 3410-11-M